FEDERAL COMMUNICATIONS COMMISSION

47 CFR Part 54

[WC Docket Nos. 10-90, 14-58, 14-259; FCC 16-64]

Connect America Fund, ETC Annual Reports and Certifications, Rural Broadband Experiments

AGENCY: Federal Communications Commission.

ACTION: Technical amendments.

SUMMARY: This document corrects errors in the final rules portion of a Federal Register document that adopted rules to implement a competitive bidding process for Phase II of the Connect America Fund that will harness market forces to expand broadband in targeted rural areas. The document was published in the Federal Register on July 7, 2016.

DATES: Effective April 27, 2018.

FOR FURTHER INFORMATION CONTACT: Alexander Minard, Wireline Competition Bureau, (202) 418-7400.

SUPPLEMENTARY INFORMATION: This is a summary of the FCC's Erratum, FCC 18-297, released on March 26, 2018. This summary contains technical amendments to a Federal Register summary, 81 FR 44414 (July 7, 2016). The full text of the Commission's Report and Order, WC Docket Nos. 10-90, 14-58; 14-259; FCC 16-64, released on March 26, 2016 is available for public inspection during regular business hours in the FCC Reference Center, Room CY-A257, 445 12th Street SW, Washington, DC 20554.

Technical Amendments

List of Subjects in 47 CFR Part 54

Communications common carriers, Health facilities, Infants and children, internet, Libraries, Reporting and recordkeeping requirements, Schools, Telecommunications, Telephone.

Accordingly, 47 CFR part 54 is corrected by making the following correcting amendments:

PART 54—UNIVERSAL SERVICE

1. The authority citation for part 54 continues to read as follows:

Authority: 47 U.S.C. 151, 154(i), 155, 201, 205, 214, 219, 220, 254, 303(r), 403, and 1302 unless otherwise noted.

2. In § 54.315, revise paragraph (c)(2)(iv)(A) to read as follows:

§ 54.315 Application process for phase II support distributed through competitive bidding.

* * * * *

(c) * * *

(2) * * *

(iv) * * *

(A) That is among the 100 largest non-U.S. banks in the world, determined on the basis of total assets as of the end of the calendar year immediately preceding the issuance of the letter of credit (determined on a U.S. dollar equivalent basis as of such date);

* * * * *

3. In § 54.804, revise paragraph (d)(2)(iv)(A) to read as follows:

§ 54.804 Application process.

* * * * *

(d) * * *

(2) * * *

(iv) * * *

(A) That is among the 100 largest non-U.S. banks in the world, determined on the basis of total assets as of the end of the calendar year immediately preceding the issuance of the letter of credit (determined on a U.S. dollar equivalent basis as of such date);

* * * * *

Federal Communications Commission.
Katura Jackson,
Federal Register Liaison Officer, Office of the Secretary.

[FR Doc. 2018-08887 Filed 4-26-18; 8:45 am]

BILLING CODE 6712-01-P